SMALL BUSINESS ADMINISTRATION

[Declaration of Disaster #3485]

Commonwealth of Virginia

Amendment #1

In accordance with a notice received from the Department of Homeland Security—Federal Emergency Management Agency, effective April 28, 2003, the above numbered declaration is hereby amended to include Lee, Pulaski and Roanoke Counties in the Commonwealth of Virginia as disaster areas due to damages caused by a severe winter storm, record snowfall, heavy rain, flooding and mudslides occurring on February 15 through February 28, 2003.

In addition, applications for economic injury loans from small businesses located in the contiguous counties of Bedford, Botetourt, Carroll, Franklin, Scott and Wythe in the Commonwealth of Virginia; and Claiborne and Hancock Counties in the State of Tennessee may be filed until the specified date at the previously designated location. All other counties contiguous to the above named primary counties have been previously declared.

The economic injury number assigned to Tennessee is 9V1000.

All other information remains the same, i.e., the deadline for filing applications for physical damage is May 27, 2003, and for economic injury the deadline is December 29, 2003.

(Catalog of Federal Domestic Assistance Program Nos. 59002 and 59008).
Dated: April 29, 2003.
Herbert L. Mitchell,
Associate Administrator for Disaster Assistance.

[FR Doc. 03-10990 Filed 5-2-03; 8:45 am]

BILLING CODE 8025-01-P